DEPARTMENT OF THE INTERIOR

Bureau of Land Management

[LLNML00000 L54400000.EU0000 LVCLG13G5160 13XL5017AR]

Application for Conveyance of Federally Owned Mineral Interests in Doña Ana County, NM

AGENCY: Bureau of Land Management, Interior.

ACTION: Notice of realty action.

SUMMARY: On August 1, 2014, the City of Las Cruces (the City) submitted an application to the Bureau of Land Management (BLM) for the conveyance of the federally owned mineral interests in the 125-acre parcel of land described in this notice.

DATES: Interested parties may submit written comments to the BLM at the address listed below on or before February 2, 2015.

ADDRESSES: Bureau of Land Management, Las Cruces District Office, 1800 Marquess Street, Las Cruces, NM 88005. Detailed information concerning this action is available for review at this address.

FOR FURTHER INFORMATION CONTACT: Anthony Hom, Realty Specialist, at the address above, or by telephone at 575-525-4331, or email to ahom@blm.gov. Persons who use a telecommunications device for the deaf (TDD) may call the Federal Information Relay Service (FIRS) at 1-800-877-8339 to contact the above individual during business hours. The FIRS is available 24 hours a day, 7 days a week, to leave a message or question with the above individual. You will receive a reply during normal business hours.

SUPPLEMENTARY INFORMATION: The BLM is processing the City's application under section 209 of the Federal Land Policy and Management Act (FLPMA), 43 U.S.C. 1719(b), to convey the federally owned mineral interests for 125 acres of public land located in Doña Ana County, New Mexico, to the prospective surface owner, the City. In a separate transaction, the City is also proposing to obtain a conveyance of the surface interest from the BLM. The City has been leasing 80 acres of this public land and using it as a landfill under the provisions of the Recreation and Public Purposes Act, as amended. The Notice of Realty Action for the surface-interest conveyance published in the Federal Register on November 12, 2014 (79 FR 67186). The case file number is NMNM 133158.

The parcel of land referred to in this notice consists of 125 acres of land situated in Doña Ana County, and is described as follows:

New Mexico Principal Meridian, New Mexico

T. 23 S., R. 2 E.,

SEC. 11, W½NW¼NW¼NW¼NE¼, W½SW¼NW¼NW¼NE¼, N½NW¼, N½SW¼NW¼, NW¼SW¼SW¼NW¼, N½SE¼NW¼.

The area described contains 125 acres.

Under certain conditions, Section 209(b) of FLPMA, 43 U.S.C. 1719(b) authorizes the sale and conveyance of the federally owned mineral interest in land to the surface owner when the surface interest is not federally owned. The objective is to allow consolidation of the surface and mineral interests when either one of the following conditions exist: (1) There are no known mineral values in the land; or (2) Where continued Federal ownership of the mineral interests interferes with or precludes appropriate non-mineral development and such development is a more beneficial use of the land than mineral development.

The lands were segregated from operation of the public land laws, including the general mining law, subject to valid existing rights, when the BLM published the Notice of Realty Action pertaining to the application for conveyance of the land for landfill use under the Recreation and Public Purposes Act. The application is being processed to determine if either one of the two specific FLPMA section 209 conditions exists and, if so, to otherwise comply with the procedural requirements of 43 CFR part 2720 and Section 209 of the FLPMA. The segregative effect of the previously published Notice of Realty Action shall terminate: (1) Upon issuance of a patent or other document of conveyance as to such mineral interests; (2) Upon final rejection of the application; or (3) Two years (August 1, 2016) after the date of filing of the application, whichever occurs first.

Comments: Your comments are invited. Please submit all comments in writing to Anthony Hom at the address listed above.

Before including your address, phone number, email address, or other personal identifying information in your comment, you should be aware that your entire comment—including your personal identifying information—may be made publicly available at any time. While you can ask us in your comment to withhold your personal identifying information from public review, we cannot guarantee that we will be able to do so.

Authority: 43 CFR 2720.1-1(b).

Aden L. Seidlitz,
Associate State Director.

[FR Doc. 2014-29690 Filed 12-17-14; 8:45 am]

BILLING CODE 4310-FB-P